SMALL BUSINESS ADMINISTRATION

[Disaster Declaration #16202 and #16203; SOUTH DAKOTA Disaster Number SD-00098]

Presidential Declaration Amendment of a Major Disaster for the State of South Dakota

AGENCY: U.S. Small Business Administration.

ACTION: Amendment 2.

SUMMARY: This is an amendment of the Presidential declaration of a major disaster for the State of South Dakota (FEMA-4469-DR), dated 11/18/2019.

Incident: Severe Storms, Tornadoes, and Flooding.

Incident Period: 09/09/2019 through 09/26/2019.

DATES: Issued on 01/10/2020.

Physical Loan Application Deadline Date: 01/31/2020.

Economic Injury (EIDL) Loan Application Deadline Date: 08/18/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of South Dakota, dated 11/18/2019, is hereby amended to extend the deadline for filing applications for physical damages as a result of this disaster to 01/31/2020.

All other information in the original declaration remains unchanged.

(Catalog of Federal Domestic Assistance Number 59008)

James Rivera,
Associate Administrator for Disaster Assistance.

[FR Doc. 2020-00705 Filed 1-16-20; 8:45 am]

BILLING CODE 8026-03-P